ENVIRONMENTAL PROTECTION AGENCY

[FRL-6581-6]

Agency Information Collection Activities: Proposed Collection; Comment Request; for ICRs NSPS Subpart G, NSPS Subpart K, NSPS Subpart PP, NSPS Subpart QQQ, MACT-NESHAP Subpart N, MACT-NESHAP Subpart O, MACT-NESHAP Subpart N, MACT-NESHAP Subpart S, MACT-NESHAP Subpart EE, MACT-NESHAP Subpart III, MACT-NESHAP Subpart MMM

AGENCY: Environmental Protection Agency (EPA).

ACTION: Notice.

SUMMARY: In compliance with the Paperwork Reduction Act (44 U.S.C. 3501 et seq.), this document announces that EPA is planning to submit the following ten continuing Information Collection Requests (ICR) to the Office of Management and Budget (OMB). Before submitting the ICRs to OMB for review and approval, EPA is soliciting comments on specific aspects of the information collections as described at the beginning of Supplementary Information.

DATES: Comments must be submitted on or before June 19, 2000.

ADDRESSES: U.S. Environmental Protection Agency, 1200 Pennsylvania Avenue, NW, Mail Code 2223A, Washington, DC 20460. A hard copy of an ICR may be obtained without charge by calling the identified information contact individual for each ICR in Section B of the Supplementary Information.

FOR FURTHER INFORMATION CONTACT: For specific information on the individual ICRs see section B of the Supplementary Information.

SUPPLEMENTARY INFORMATION:

For All ICRs

The EPA is charged under section 111 of the Clean Air Act, as amended, to establish standards of performance for new stationary sources (NSPS regulations) that reflect:

* * * application of the best technological system of continuous emissions reduction which (taking into consideration the cost of achieving such emissions reduction, or any nonair quality health and environmental impact and energy requirements) the Administrator determines has been adequately demonstrated (Section 111(a)(l)).

The Agency refers to this charge as selecting the best demonstrated technology (BDT). Section 111 also requires that the Administrator review and, if appropriate, revise such standards every four years.

For NESHAP or MACT-NESHAP regulations the EPA is charged under section 112 of the Clean Air Act, as amended, to establish standards of performance for each category or subcategory of major sources and area sources of hazardous air pollutants. These standards are applicable to new or existing sources of hazardous air pollutants and shall require the maximum degree of emission reduction:

In addition, section 114(a) states that the Administrator may require any owner or operator subject to any requirement of this Act to:

* * * (A) establish and maintain such records; (B) make such reports; (C) install, use, and maintain such monitoring equipment, and use such audit procedures, or methods; (D) sample such emissions (in accordance with such procedures or methods, at such locations, at such intervals, during such periods, and in such manner as the Administrator shall prescribe); (E) keep records on control equipment parameters, production variables or other indirect data when direct monitoring of emissions is impractical; (F) submit compliance certifications in accordance with section 114(a)(3); and (G) provide such other information as the Administrator may reasonably require.

In order to ensure compliance with the standards promulgated to protect public health, adequate reporting and recordkeeping is necessary. In the absence of such information enforcement personnel would be unable to determine whether the standards are being met on a continuous basis, as required by the Clean Air Act.

An Agency may not conduct or sponsor, and a person is not required to respond to, a collection information unless it displays a currently valid OMB control number. The OMB control numbers for EPA's regulations are displayed in 40 CFR part 9.

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The Agency computed the burden for each of the recordkeeping and reporting requirements applicable to the industry for the currently approved Information Collection Request (ICR). Where applicable, the Agency identified specific tasks and made assumptions, while being consistent with the concept of burden under the Paper Work Reduction Act.

A. List of ICRs Planned To Be Submitted

In compliance with the Paperwork Reduction Act (44 U.S.C. 3501 et seq.), this notice announces that EPA is planning to submit the following ten continuing Information Collection Requests (ICR) to the Office of Management and Budget (OMB):

(1) NSPS Subpart G, Nitric Acid Plants. EPA ICR No. 1056.06. OMB Control No. 2060-0019. Expiration November 30, 2000.

(2) NSPS Subpart K, Storage Vessels for Petroleum Liquids for Which Construction, Reconstruction, or Modification Commenced after June 11, 1973, and Prior to May 19, 1978. EPA ICR No. 1792. OMB Control No. 2060-0009. Expiration September 30, 2000.

(3) NSPS Subpart PP, Ammonium Sulfate Manufacturing Plants. EPA ICR No 1066.03. OMB Control No. 2060-0032. Expiration November 30, 2000.

(4) NSPS Subpart QQQ, Petroleum Refinery Wastewater Systems. EPA ICR No. 1136.04. OMB Control No. 2060-0172. Expiration December 31, 2000.

(5) MACT-NESHAP Subpart N, Chromium Emissions from Hard and Decorative Chromium Electroplating and Chromium Anodizing Tanks. EPA ICR No. 1611. OMB Control No. 2060-0327. Expiration December 31, 2000.

(6) MACT-NESHAP Subpart O, Commercial Ethylene Oxide Sterilization and Fumigation Operations. EPA ICR No. 1666.04. OMB Control No. 2060-0283. Expiration December 31, 2000.

(7) MACT-NESHAP Subpart S, Pulp and Paper Industry. EPA ICR No.1805. OMB Control No. 2060-0377. Expiration December 31, 2000.

(8) MACT-NESHAP Subpart EE, Magnetic Tape Manufacturing Operations. EPA ICR No. 1678.03, OMB Control No. 2060-0326. Expiration December 31, 2000.

(9) MACT-NESHAP Subpart III, Flexible Polyurethane Foam Production. EPA ICR No. 1783.02. OMB Control No. 2060-0357. Expiration January 31, 2000.

(10) MACT-NESHAP Subpart MMM, Pesticide Active Ingredient (PAI) Production. EPA No. 1807.01. OMB Control No. 2060-0370. Expiration November 30, 2000.

B. Contact Individuals for ICRs

(1) NSPS Subpart G, Nitric Acid Plants. Sandi Jones, tel: (202) 564-7038; FAX: (202) 564-0009; e-mail: jones.sandra@epa.gov. EPA ICR No. 1056.06. OMB Control No. 2060-0019. Expiration November 30, 2000.

(2) NSPS Subpart K, Storage Vessels for Petroleum Liquids for Which Construction, Reconstruction, or Modification Commenced after June 11, 1973, and Prior to May 19, 1978. Everett Bishop tel: (202) 564-7032; FAX: (202) 564-0050; e-mail: bishop.everett@epa.gov. EPA ICR No. 1792. OMB Control No. 2060-0009. Expiration September 30, 2000.

(3) NSPS Subpart PP, Ammonium Sulfate Manufacturing Plants. Stephen Howie, tel: (202) 564-4146; FAX: (202) 564-0085; e-mail: howie.stephen@epa.gov. EPA ICR No 1066.03. OMB Control No. 2060-0032. Expiration November 30, 2000.

(4) NSPS Subpart QQQ, Petroleum Refinery Wastewater Systems. Dan Chadwick, tel: (202) 564-7054, Fax (202) 564-0050, e-mail chadwick.dan@epa.gov. EPA ICR No. 1136.04. OMB Control No. 2060-0172. Expiration December 31, 2000.

(5) MACT-NESHAP Subpart N, Chromium Emissions from Hard and Decorative Chromium Electroplating and Chromium Anodizing Tanks. Scott Throwe, tel: (202) 564-7013, FAX: (202) 564-0050, e-mail: throwe.scott@epa.gov. EPA ICR No. 1611. OMB Control No. 2060-0327. Expiration December 31, 2000.

(6) MACT-NESHAP Subpart O, Commercial Ethylene Oxide Sterilization and Fumigation Operations. Jonathan Binder, tel: (202) 564-2516; FAX: (202) 564-0009; e-mail: binder.jonathan@epa.gov. EPA ICR No. 1666.04. OMB Control No. 2060-0283. Expiration December 31, 2000.

(7) MACT-NESHAP Subpart S, Pulp and Paper Industry. Belinda Breidenbach, tel: (202) 564-7022; FAX: (202) 564-0050; e-mail: breidenbach.belinda@epa.gov. EPA ICR No.1805. OMB Control No. 2060-0377. Expiration December 31, 2000.

(8) MACT-NESHAP Subpart EE, Magnetic Tape Manufacturing Operations. Steven Hoover, tel: (202) 564-7007; FAX: (202) 564-0050; e-mail: hoover.steven@epa.gov. EPA ICR No. 1678.03, OMB Control No. 2060-0326. Expiration December 31, 2000.

(9) MACT-NESHAP Subpart III, Flexible Polyurethane Foam Production. Greg Fried, tel: (202) 564-7016; FAX: (202) 564-0050; e-mail: fried.gregory@epa.gov. EPA ICR No. 1783.02; OMB Control Number 2060-0357. Expiration April 30, 2000.

(10) MACT-NESHAP Subpart MMM, Pesticide Active Ingredient (PAI) Production. Stephen Howie, tel: (202) 564-4146; FAX: (202) 564-0085; e-mail: howie.stephen@epa.gov. EPA No. 1807.01. OMB Control No. 2060-0370. Expiration November 30, 2000.

C. Individual ICRs

Nitric Acid Plants

(1) NSPS Subpart G, Nitric Acid Plants. EPA ICR No. 1056.06. OMB Control No. 2060-0019. Expiration November 30, 2000.

Abstract: This ICR contains recordkeeping and reporting requirements that are mandatory for compliance with 40 CFR part 60, subpart G, Standards of Performance for Nitric Acid Plants. This information is used by the Agency to identify sources subject to the standards and to insure that the best demonstrated technology is being properly applied. The standards require periodic recordkeeping to document process information relating to the sources' ability to meet the requirements of the standard and to note the operation conditions under which compliance was achieved.

In the Administrator's judgment, nitrogen oxides and particulate matter emissions from nitric acid plants cause or contribute to air pollution that may reasonably be anticipated to endanger public health or welfare. Therefore, NSPS were promulgated for this source category.

Owners or operators of the affected facilities described must make the following one-time-only reports: notification of the date of construction or reconstruction; notification of the anticipated and actual dates of startup; notification of any physical or operational change to an existing facility which may increase the regulated pollutant emission rate; notification of demonstration of the continuous monitoring system (CMS); notification of the date of the initial performance test; and the results of the initial performance test. Owners or operators are also required to maintain records of the occurrence and duration of any startup, shutdown, or malfunction in the operation of an affected facility, or any period during which the monitoring system is inoperative. These notifications, reports and records are required, in general, of all sources subject to NSPS.

Monitoring requirements specific to nitric acid plants provide information on nitrogen oxide emissions. The owners or operators are required to record the production rate of nitric acid produced, the hours of operation of the source, and the levels of nitrogen oxides emitted into the atmosphere, and the volumetric flow rate of the effluent gas. Owners or operators of affected facilities are required to install, calibrate, maintain, and operate a continuous monitoring system (CMS) for the measurement and recording of nitrogen oxides. All other information required by this part recorded in a permanent form suitable for inspection. The file shall be retained for at least two years.

Burden Statement: The estimate was based on the assumption that there are approximately 30 sources subject to the standards and there would be 1 new affected facility each year. That would account for an annual average of 32 affected facilities over each of the next three years covered by the ICR. For new sources, it was estimated that it would take: 1 person hours to read the instructions, 60 person hours to conduct the initial performance tests (assuming that 20% of the tests must be repeated), and 7 person hours to gather the information and write the initial reports. For all sources, it was estimated that it would take: 192 person hours to fill out semiannual reports and 2,664 person hours to enter information for records of operating parameters. The annual average burden to industry for the three-year period covered by this ICR from recordkeeping and reporting requirements has been estimated at 2,941 person hours.

Storage Vessels for Petroleum Liquids

(2) NSPS Subpart K, Storage Vessels for Petroleum Liquids for Which Construction, Reconstruction, or Modification Commenced after June 11, 1973, and Prior to May 19, 1978. EPA ICR No. 1792. OMB Control No. 2060-0009. Expiration September 30, 2000.

Abstract: The New Source Performance Standards (NSPS) for Storage Vessels for Petroleum Liquids, subpart K was proposed on June 11, 1973 and promulgated on March 8, 1974 (39 FR 9308). These performance standards apply to storage vessels of petroleum liquids for which construction, reconstruction, or modification commenced after June 11, 1973, and prior to May 19, 1978. Facilities subject to this subpart are those that operate a storage vessel with petroleum liquids which has a storage capacity greater than 151,416 liters (40,000 gallons), and for which construction commenced after June 11, 1973, and prior to May 19, 1978; storage vessel greater than 151,416 liters (40,000 gallons) but not exceeding 246,052 liters (65,000 gallons), and commences construction or modification after March 8, 1974, and prior to May 19, 1978; and storage vessel that has a capacity greater than 246,052 liters (65,000 gallons), and commences construction or modification after June 11, 1973, and prior to May 19, 1978.

There are approximately 220 respondents, reporting on approximately 5,500 petroleum storage vessels that are subject to this standard. The number of respondents was from a data pull of the Aerometric Information Retrieval System (AIRS) Facility Subsystem (AFS), discussions with Environmental Protection Agency (EPA) Regional staff, and members of EPA's CSI project on petroleum refinery. Since the applicability dates for this standard are closed ended, there will be no additional sources subject to the requirements of NSPS subpart K. New, modified, or reconstructed sources would be subject to NSPS subpart Kb. Volatile organic compounds (VOCs) are the pollutants regulated under this standard. The standard limits VOC emissions by maintaining necessary information and the installation of equipment, if required, i.e. floating roof, vapor recovery or their equivalents. The equipment is required when the true vapor pressure of the stored petroleum liquid is equal or greater than 78mm Hg (1.5 psia), but not greater than 570mm Hg (11.1psia).

Burden Statement: It is estimated that 150 Respondents are affected by subpart K. The universe of sources subject to this subpart is closed by its applicability dates. The estimated reporting burden is 2.5 hours/respondent/year for recordkeeping. The frequency for collecting this information depends on the number of times in a year the petroleum storage tank is emptied and refilled. The estimate for this is once a year.

Ammonium Sulfate Manufacturing Plants

(3) NSPS Subpart PP, Ammonium Sulfate Manufacturing Plants. EPA ICR No 1066.03. OMB Control No.2060-0032. Expiration November 30, 2000.

Abstract: The Administrator has judged that PM emissions from ammonium sulfate manufacturing plants cause or contribute to air pollution that may reasonably be anticipated to endanger public health or welfare. Owners/operators of ammonium sulfate manufacturing plants must make the following one-time-only reports: notification of the date of construction or reconstruction; notification of the anticipated and actual dates of startup; notification of any physical or operational change to an existing facility which may increase the regulated pollutant emission rate; and the notification of the date of the initial performance test. The recordkeeping requirements for ammonium sulfate plants consist of the occurrence and duration of all start-ups and malfunctions, the initial performance tests results, amount of ammonium sulfate feed material, and the pressure drop across the emission control system. Records of startups, shutdowns and malfunctions shall be noted as they occur. Records of the performance test should include information necessary to determine the conditions of the performance test, and performance test measurements (including pressure drop across the emission control system) and results. The CMS shall record pressure drop across the scrubbers continuously and automatically.

Burden Statement: The annual burden per each industry respondent is estimated to consist of 91.25 hours per year which reflects the time needed to record the operating parameters of emissions (flow and pressure drop across the emissions control system). This figure reflects 0.25 hours per day multiplied by 365 days in a year.

No new sources or reconstruction of existing sources are anticipated during the next three years. If any new sources or reconstruction were to occur, the one-time burden per new source is estimated at 129 hours, including: 1 hour to read instructions; 119 hours to perform four Reference Method 9 tests; 2 hours for notification of construction/modification; 2 hours for notification of anticipated startup; 1 hour for notification of actual startup; 2 hours for notification of initial performance test; and 2 hours for notification of demonstration of continuous monitoring system. The annual public reporting and recordkeeping burden for this collection of information is estimated to average 87.5 hours per response.

Petroleum Refinery Wastewater Systems

(4) NSPS Subpart QQQ, Petroleum Refinery Wastewater Systems. EPA ICR No. 1136.04. OMB Control No. 2060-0172. Expiration December 31, 2000.

Abstract: Entities potentially affected by this action are those petroleum refinery wastewater systems located in petroleum refineries for which construction, modification, or reconstruction commenced after May 4, 1987. More specifically affected facilities include individual drain systems, oil-water separators and aggregate facilities (individual drain systems together with downstream sewer lines and oil-water separators). Owners or operators of the affected facilities described must provide EPA, or the delegated State regulatory authority with the following one-time-only reports (specified in 40 CFR 60.698). Notification of construction, modification, startup, shutdown, malfunction, and the date and results of the initial performance test. Owners and operators are also required to keep records of design and operating specifications of all equipment installed to comply with the standards such as water seals, covers, roof seals, and control devices. Owners and operators must submit semiannual certification reports indicating that all emission detection tests and visual inspections required by the standards are carried out. EPA or the delegated State regulatory authority uses this information to ensure that equipment design and operating specifications are met.

Burden Statement: The estimate was based on the assumption that there would be zero new effected facilities subject to subpart QQQ per year. Approximately 200 sources are currently subject to these standards. The annual burden of reporting and recordkeeping for facilities subject to subpart QQQ are summarized by the following information. The reporting requirements for all subpart QQQ affected facilities are as follows: Read instructions (1 person-hour), Notification of construction (2 person-hours), Notification of anticipated start-up (2 person-hours), Notification of actual start-up (2 person-hours), Semiannual report (8 person-hours). The reporting requirements for facilities that have oil-water separators and process drain systems are as follows: Monthly inspection (2 person-hours), Semiannual inspection (8 person-hours), Performance test (330 person-hours), Design specifications and compliance certifications (40 person-hours). The recordkeeping requirements for all subpart QQQ affected facilities are; Time to enter information (1.5 person-hours).

Chromium Emissions From Hard and Decorative Chromium Electroplating and Chromium Anodizing Tanks

(5) NESHAP Subpart N, Chromium Emissions from Hard and Decorative Chromium Electroplating and Chromium Anodizing Tanks. EPA ICR No. 1611. OMB Control No. 2060-0327. Expiration December 31, 2000.

Abstract: Entities potentially affected by this action are owners/operators of hard and decorative chromium electroplating and chromium anodizing operations. The Administrator has judged that chromium emissions from hard and decorative chromium electroplating and chromium anodizing tanks cause or contribute to air pollution that may reasonably be anticipated to endanger public health or welfare. Owners/operators of affected hard and decorative chromium electroplating and chromium anodizing operations must notify EPA of construction, modification, startups, shut downs, date and results of initial performance test and provide reports of excess emissions. They must also develop startup, shutdown, malfunction plans and develop an operation and maintenance plan for their control system. Affected facilities also must provide notification of compliance status and report monitoring deviations.

Burden Statement: The annual public reporting and record-keeping burden for this collection of information is estimated to average 516,186 person hours. There are 5020 affected entities. The burden estimates for the record keeping and reporting requirements for the Chrome Electroplating and Anodizing NESHAP are initial performance test—350 hours, initial notification for construction/reconstruction, anticipated startup, actual startup, performance test—2 hours each, notification of physical or operational change—8 hours, operation and maintenance plan—10 hours, compliance status reports—6 hours, waiver application—6 hours, maintaining monitoring data records for wetting agents, foam blankets—0.25 hours, maintaining monitoring data records for composite mesh pads, packed bed scrubbers—0.5 hours, and maintaining records of trivalent chromium bath purchases—0.5 hours.

Commercial Ethylene Oxide Sterilization and Fumigation Operations

(6) MACT-NESHAP Subpart O, Commercial Ethylene Oxide Sterilization and Fumigation Operations. EPA ICR No. 1666.04. OMB Control No. 2060-0283. Expiration December 31, 2000.

Abstract: Entities potentially affected by this action are those which are subject to NESHAP subpart O, or operators of new and existing commercial ethylene oxide (EO) sterilization and fumigation facilities that use air pollution control devices that are in operation after promulgation of the NESHAP in 1994.

The Agency is required under section 112(d) of the Clean Air Act, as amended, to regulate emissions of hazardous air pollutants listed in section 112(b). In the Administrator's judgement, ethylene oxide (EO) emitted from commercial EO sterilization and fumigation operations causes or contributes significantly to air pollution that may reasonably be anticipated to endanger public health or welfare. Consequently, the NESHAP for EO emissions have been developed for this source category.

Certain records and reports are necessary to enable the Administrator to: (1) identify new, modified, reconstructed, and existing sources subject to the standards; and (2) ensure that the standards, which are based on maximum achievable control technology (MACT) and generally available control technology (GACT), are being achieved. These records and reports are required under the General Provisions of 40 CFR part 63, subpart A (as authorized under sections 101, 112, 114, 116, and 301 of the Clean Air Act as amended by Public Law 101-549 (U.S.C. 7401, 7412, 7414, 7416, 7601).

Owners or operators of affected facilities must submit one-time reports of start of construction, anticipated or actual startup dates, and physical or operation changes to existing facilities. In addition, owners or operators of existing commercial EO sterilization and fumigation operations will submit one-time reports of actual annual EO use. Owners or operators of new commercial EO sterilization and fumigation operations will submit one-time reports of estimated annual EO use.

Reports of initial emissions testing are necessary to determine that the applicable emission limit is being met. The owner or operator of a commercial EO sterilization and fumigation operation that uses an air pollution control device to meet the emission limit is required to maintain records of the site-specific monitoring parameters as well as daily and monthly inspections of the control device. The emissions test reports and other records are used to determine that all sources subject to these NESHAP are achieving the standards.

The recordkeeping requirements are: (1) five year retention or records (sections 63.360(a), 63.367(a), 63.7(g)(3), 63.10(b)(1)); (2) records of control equipment maintenance, inspections, malfunctions (occurrence, duration, and corrections), continuous monitoring systems malfunctions or in operations, calibrations, and parameters, measurements to demonstrate compliance, performance test results, daily and monthly inspections, and documents supporting initial notifications and notification of compliance status (daily and monthly) (sections 63.360(a), 63.367(a), 63.10(b)(2)(ii), (vi)-(xii), (xiv), 63.10(c)(1), (5), (8), (10)-(14)); (3) emission testing (occurrence and duration) (sections 63.360(a), 63.367(a), 63.10(b)(2)); and (4) records of EO use (sections 63.362, 63.367(b) and (c)). The reporting requirements are: (1) notification and reports of startup, construction or modification (sections 63.360, 63.366(a)-(c), 63.5(a), 63.5(b)(1), (4)-(6), (d)(3)-(4), (e), 63.6(e), 63.9(a)-(b)(1)(i), (b)(2)-(3), 63.10(d)(5)); (2) notification and reports of emission and performance tests and results (including continuous monitoring system quality control programs, performance evaluations/summaries, and site-specific test plans (sections 63.360(a), 63.366(a) and (c), 63.7(a)-(c), (e)-(h), 63.8(d)-(e), 63.9(e), (g)(1), 63.10(d)(1)-(2), (e)(1)-(2)(i)); (3) notification and report of compliance status, including performance tests (sections 63.363(a), 63.363, 63.366(a)-(c), 63.9(h)); (4) notification and report for waiver applications (sections 63.360(a), 63.366(a) 63.9(h)); (5) notification and reports for waiver applications (sections 63.360(a) 63.366(a), 63.7(h)); (6) request for extension of compliance and progress reports; (7) use of alternative standards, including alternative monitoring (sections 63.360, 63.366(b)(3), 63.7(b)-(c), (e)-(h), 63.8(f), 63.10(d)(1)-(2)); and (8) notification and report of non-compliance, including excess emissions (sections 63.360(a), 63.366(a), 63.10(e)(3)(i)-(iv), (vi)-(viii)).

Burden Statement: The annual public reporting burden for this collection of information is estimated to average 241 hours per respondent per year. This burden includes reading instructions and reporting on the initial and repeat performance tests. The annual public report writing burden is estimated to average 44 hours per respondent per year. This burden includes writing reports on construction, reconstruction, start-up, compliance status, and the initial and repeat performance tests. The annual public data entry burden is estimated to average 12 hours per respondent per year.

Pulp and Paper Industry

(7) MACT-NESHAP Subpart S, Pulp and Paper Industry. EPA ICR No. 1805. OMB Control No. 2060-0377. Expiration December 31, 2000.

Abstract: Respondents are owners and operators of new and existing sources at kraft, soda, sulfite, and stand-alone semichemical pulp mills that emit hazardous air pollutants (HAP's). There are currently 122 kraft, 2 soda, 15 sulfite, and 14 stand-alone semichemical pulp mills in the United States. Of the 153 facilities that comprise the source category, 149 are expected to meet the applicability criteria defined in the final rule. No new facilities (pulp mills) are expected to be constructed in the next 5 years; however, approximately 20 new recovery furnaces, 20 new smelt dissolving tanks, and 15 new lime kilns are expected to be constructed at existing kraft pulp mills in the next 5 years. In addition, two new semichemical combustion units and no new soda or sulfite combustion sources are expected to be constructed in the next 5 years.

Owners or operators of combustion sources at kraft, soda, sulfite, and stand-alone semichemical pulp mills to which this regulation is applicable must install and monitor a specific control system that reduces HAP emissions to the compliance level. Owners or operators also would be required to install, operate and maintain a continuous monitoring system (CMS) for each affected source. To ensure compliance with the proposed particulate matter (PM) and PM HAP standards, owners or operators of kraft and soda recovery furnaces and lime kilns equipped with electrostatic precipitators (ESP's) would be required to maintain opacity levels below a specified level. Owners or operators of affected sources equipped with control devices other than ESP's would be required to establish control device or process operating parameter ranges that indicate the control device or process is being operated and maintained in accordance with good air pollution control practices. The control device or process operating parameter ranges would be established during the initial performance test or subsequent performance tests. Owners or operators complying with the proposed total gaseous organic HAP limit for new kraft and soda recovery furnaces that use a non-direct contact evaporator (NDCE) recovery furnace with a dry ESP system are exempt from monitoring requirements for gaseous organic HAP's because the use of this equipment ensures continuous compliance with the emission limit.

The respondents are subject to the general NESHAP recordkeeping and reporting requirements including those associated with the initial notification and the notification of compliance status for the first 6 months following the compliance date of the NESHAP and every 6 months thereafter. In addition, respondents would be required to submit with the initial notification an implementation plan that describes the NESHAP compliance procedures the mill plans to use and the associated monitoring and recordkeeping procedures. Respondents electing to comply with the emission limit or emission reduction requirements as described in the proposed rule for pulp and paper combustion sources must record the average values of equipment operating parameters as specified in sections 63.864 and 63.866 of the proposed rule.

Burden Statement: The burden hours include 2 hours to read instructions. For the required activities the initial Performance Test requirements PM test (Method 5 or 29) takes 217 hours, the PM HAP test (Method 29 and 101a) takes 447 hours, the TGO HAP (Method 308) takes 243 hours, and the TGO HAP (Method 25A) takes 243 hours. It is assumed that 20% will repeat the performance test due to failure. Performance Spec Test (certification) and any repeat tests take 13 hours for CMS and 36 hours for COMS.

Initial notifications including the notification of construction/reconstruction, notification of anticipated startup, notification of actual startup, notification of initial performance test(s), notification of initial CMS/COMS demonstration all require two hours. The notification of physical/operational changes takes eight hours, and the notification of compliance status four hours.

Recordkeeping Requirements include records and documentation of supporting calculations for compliance determinations (8 hours), records of compliant monitoring parameter ranges (2 hours), and records certifying that an NDCE recovery furnace equipped with a dry ESP system is used to comply with the total gaseous organic HAP standard for kraft and soda recovery furnaces (2 hours). It is estimated that 40 hours are needed to develop a record system, and 100 hours to develop a startup, shutdown, and malfunction plan.

Magnetic Tape Manufacturing Operations

(8) MACT-NESHAP Subpart EE, Magnetic Tape Manufacturing Operations. EPA ICR No. 1678.03, OMB Control No. 2060-0326. Expiration December 31, 2000.

Abstract: Entities potentially affected by this action are those which are subject to National Emission Standards for Hazardous Air Pollutants (NESHAP) Subpart EE, owners and operators of new and existing magnetic tape manufacturing operations located at major sources of hazardous air pollutants (HAP) as defined in section 112 of the Clean Air Act.

The Administrator has judged that the HAP emissions from magnetic tape manufacturing operations cause or contribute to air pollution that may reasonably be anticipated to endanger public health or welfare. Owners/operators of affected magnetic tape manufacturing operations must notify EPA of construction, modification, startups, shutdowns, date and results of initial performance test and provide semiannual reports of excess emissions. They must also develop startup, shutdown, malfunction plans and develop a quality control plan for their continuous monitoring system. Affected facilities also must provide notification of compliance status and report quarterly monitoring exceedances. This information enables the Agency to: (1) Identify the sources subject to the standard; (2) ensure initial compliance with emission limits; and (3) verify continuous compliance with the standard.

In the absence of such information collection requirements, enforcement personnel would be unable to determine whether the standards are being met on a continuous basis, as required by the Clean Air Act. Consequently, these information collection requirements are mandatory, and the records required by this NESHAP must be retained by the owner or operator for at least five years.

Burden Statement: In the previously approved ICR, the average annual burden to the industry over the next three years to meet these record-keeping and reporting requirements was estimated at 7042 person-hours. The total annualized cost burden was estimated at $246,470. This is based on an estimated 13 respondents and a frequency of response of 2. The average annual burden for reporting only is projected to be 709 person-hours.

Flexible Polyurethane Foam

(9) MACT-NESHAP Subpart III, Flexible Polyurethane Foam Production. EPA ICR No. 1783.02. OMB Control No. 2060-0357. Expiration January 31, 2000.

Abstract: Respondents are owners and operators of new and existing facilities that engage in the manufacture of flexible polyurethane foam products and emit hazardous air pollutants (HAP's). This includes facilities making slabstock flexible polyurethane foam (“slabstock foam”), rebond flexible polyurethane foam (“rebond foam”), and/or molded flexible polyurethane foam (“molded foam”). All of the 176 facilities that comprise the source category are expected to meet the applicability criteria defined in the final rule. Few facilities are expected to be constructed in the next 5 years.

Owners or operators of flexible polyurethane foam production facilities must choose one of the compliance options described in the rule or reduce HAP emissions to below the compliance level. The respondents are subject to follow sections of subpart A relating to NESHAP. For slabstock foam producers, these requirements include those associated with the initial notification and the notification of compliance status for the first six months, and every six months thereafter. In addition, respondents would be required to submit with the initial notification a precompliance report that describes the HAP compliance procedures, and recordkeeping procedures. Respondents electing to comply with the slabstock foam emission limitation using recovery devices must measure and record emissions as specified in section 63.1297-1 of the proposed rule. Molded and rebond foam producers have only to submit an initial compliance report.

If the owner or operator identifies any deviation resulting from a known cause for which no Federally-approved or promulgated exemption from an emission limitation or standard applies, the compliance report shall also include all records that the source is required to maintain that pertain to the periods during which such deviation occurred, as well as the following: the magnitude of each deviation; the reason for each deviation; a description of the corrective action taken for each deviation, including action taken to minimize each deviation and action taken to prevent recurrence; and a copy of all quality assurance activities performed on any element of the monitoring protocol.

Owners or operators of slabstock flexible polyurethane foam production facilities must maintain a copy of all HAP usage records onsite for a minimum of 5 years. Upon request from the regulating entity, facilities must submit all reports (to EPA or the respondent's State or local agency, whichever has been delegated enforcement authority by EPA).

Burden Statement: EPA estimates a total annual reporting and recordkeeping burden for this collection averaged over the first 3 years of $571,765 and 17,796 burden hours per year for the entire source category. The average burden, per respondent, is 101 hours per year.

The rule requires an initial one-time notification from each respondent and subsequent notification every six months to indicate their compliance status. At the time of the initial notification each respondent must submit a precompliance report that describes compliance procedures. A respondent must also keep necessary records of data to determine compliance with the standards in the regulation. Facilities would record this data monthly. EPA estimates the initial information collection requirements affects 176 respondents.

Pesticide Active Ingredient

(10) MACT-NESHAP Subpart MMM, Pesticide Active Ingredient (PAI) Production. EPA No. 1807.01. OMB Control No. 2060-0370. Expiration November 30, 2000.

Abstract: These standards apply to owners and operators of new and existing facilities that engage in the production of pesticide active ingredients and emit hazardous air pollutants (HAP's). Specific affected facilities for each subpart are found at 40 CFR 63.1360. Owners or operators of PAI production facilities to which this regulation applies must choose one of the compliance options described in the rule or install and monitor a specific control system that reduces HAP emissions to the compliance level. The respondents are subject to sections of subpart A of 40 CFR part 63 relating to NESHAP. These requirements include those associated with the applicability determination; the notification that the facility is subject to the rule; and the notification of testing (control device performance test and CMS performance evaluation); the results of performance testing and CMS performance evaluations; startup, shutdown, and malfunction reports; and semiannual or quarterly summary reports and/or excess emissions and CMS performance reports. In addition to the requirements of subpart A, many respondents are required to submit a precompliance plan and LDAR reports, and plants that wish to implement emissions averaging provisions must submit an emissions averaging plan.

Respondents electing to comply with the emission limit or emission reduction requirements for process vents, storage tanks, or wastewater must record the values of equipment operating parameters as specified in section 63.1367 of the rule.

If the owner or operator identifies any deviation resulting from a known cause for which no Federally-approved or promulgated exemption from an emission limitation or standard applies, the compliance report shall also include all records that the source is required to maintain that pertain to the periods during which such deviation occurred, as well as the following: the magnitude of each deviation; the reason for each deviation; a description of the corrective action taken for each deviation, including action taken to minimize each deviation and action taken to prevent recurrence; and a copy of all quality assurance activities performed on any element of the monitoring protocol.

Owners or operators of PAI production facilities subject to the rule must maintain a copy of all monitored equipment operating parameter values that demonstrate compliance with the standards. Records and reports must be retained for a total of 5 years (2 years at the site; the remaining 3 years of records may be retained off-site). The files may be maintained on microfilm, on a computer or floppy disks, on magnetic tape disks, or on microfiche.

Since many of the facilities potentially affected by the proposed standards are currently subject to new source performance standards (NSPS), the standards include an exemption from the NSPS for those sources. That exemption eliminates a duplication of information collection requirements.

Burden Statement: The estimated one-time burden to implement recordkeeping and reporting requirements is broken down into several categories. All sources will face an initial burden of 319 hours, consisting of: 2 hours for reading instructions; 13 hours for the CMS performance evaluation test; 2 hours for notification of the initial performance test; 2 hours for notification of the CMS performance test; 80 hours for notification of compliance status (with performance test); 40 hours to develop a record system; 100 hours to develop a startup, shutdown, and malfunction plan; 40 hours to develop a QA/QC plan for the CMS; and 40 hours to train personnel.

New sources (an estimated 2 per year) will face, in addition to the above burden, a one-time burden of 10 hours for: 2 hours for notification of construction; 4 hours for notification of actual startup; 2 hours for notification of initial performance test; and 2 hours for notification of CMS performance evaluation. Reconstructed sources (an estimated one per year) will face a burden of 10 hours per occurrence broken out in the same manner. Ten percent of all sources annually are expected to be required to submit notifications of process change for an estimated burden of 8 hours per occurrence.

Recurrent burden affecting all respondents is estimated at 762 hours per year. This is broken down as follows: 188 hours for LDAR reporting (40% of initial and annual monitoring and repair labor); 78 hours to record startup, shutdowns, and malfunctions; 320 hours to record continuous monitoring data (one hour per day per source times 320 operating days per year); 96 hours to compile data; 32 hours to enter and verify data for semiannual reports (16 hours per occurrence times twice a year); 48 hours for calibrating CMS.

In addition, there will be semiannual reporting requirements for all plants, differing in amount depending on whether the plant experiences exceedances. The estimated burden for plants with no exceedances (estimated at 90% of affected sources) is 16 hours per respondent; the estimated burden in the case of exceedances (10% of affected sources) is 48 hours per respondent.

Finally, those existing sources opting for an emissions averaging plan (10% of existing sources only) is 20 hours per respondent.

Dated: April 7, 2000.
Michael Stahl,
Acting Director, Office of Compliance.

[FR Doc. 00-9657 Filed 4-17-00; 8:45 am]

BILLING CODE 6560-50-P